ENVIRONMENTAL PROTECTION AGENCY

[FRL-8483-5]

Agency Information Collection Activities OMB Responses

AGENCY: Environmental Protection Agency (EPA).

ACTION: Notice.

SUMMARY: This document announces the Office of Management and Budget's (OMB) responses to Agency Clearance requests, in compliance with the Paperwork Reduction Act (44 U.S.C. 3501 et. seq). An agency may not conduct or sponsor, and a person is not required to respond to, a collection of information unless it displays a currently valid OMB control number. The OMB control numbers for EPA's regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses to Agency Clearance Requests

OMB Approvals

EPA ICR Number 1713.06; Federal Operating Permit Regulations (Renewal); in 40 CFR part 71; was approved 09/12/2007; OMB Number 2060-0336; expires 09/30/2010.

EPA ICR Number 1587.07; State Operating Permit Regulations (Renewal); in 40 CFR part 70; was approved 09/12/2007; OMB Number 2060-0243; expires 09/30/2010. EPA ICR Number 1967.03; NESHAP for Stationary Combustion Turbines (Renewal); in 40 CFR part 63, subpart YYYY; was approved 09/19/2007; OMB Number 2060-0540; expires 09/30/2010.

EPA ICR Number 2243.04; Procedures for Implementing the National Environmental Policy Act (NEPA) and Assessing Environmental Effects Abroad of EPA Actions (Final Rule); was approved 09/20/2007; OMB Number 2020-0033; expires 08/31/2010.

EPA ICR Number 0783.53; Motor Vehicle Emissions and Fuel Economy Compliance: Light Duty Vehicles, Light Duty Trucks, and Highway Motorcycles (Final Rule); in 40 CFR part 600, 40 CFR parts 85 and 86, 40 CFR 86.1845-86.1886, 40 CFR 86.412-86.486, and 40 CFR part 85.1901-85.1908; was approved 09/27/2007; OMB Number 2060-0104; expires 11/30/2008.

EPA ICR Number 1857.04; NOX Budget Trading Program to Reduce the Regional Transport of Ozone (Renewal); in 40 CFR 51.121, 40 CFR 51.122, 40 CFR 75, subpart H; was approved 09/27/2007; OMB Number 2060-0445; expires 09/30/2010.

EPA ICR Number 1593.07; Air Emission Standards for Tanks, Surface Impoundments and Containers (Renewal); in 40 CFR part 265, subpart CC, 40 CFR part 264, subpart CC; was approved 10/04/2007; OMB Number 2060-0318; expires 10/31/2010.

EPA ICR Number 2256.02; NESHAP for Acrylic/Modacrylic Fibers Production, Carbon Black Production, Chemical Manufacturing: Chromium Compounds, Flexible Polyurethane Foam Production/Fabrication, Lead Acid Battery Manufacturing, Wood Preserving (Final Rule); in 40 CFR part 63, subpart PPPPPP; 40 CFR part 63, subpart QQQQQQ; 40 CFR part 63, subpart LLLLLL; 40 CFR part 63, subpart MMMMMM; 40 CFR part 63, subpart NNNNNN; 40 CFR part 63, subpart OOOOOO; was approved 10/04/2007; OMB Number 2060-0598; expires 10/31/2010.

EPA ICR Number 1844.03; NESHAP for Petroleum Refineries, Catalytic Cracking, Reforming and Sulfur Units (Renewal); in 40 CFR part 63, subpart UUU; was approved 10/08/2007; OMB Number 2060-0554; expires 10/31/2010.

EPA ICR Number 1896.07; Disinfectants/Disinifection Byproducts, Chemical and Radionuclides; Short Term Regulatory Revisions and Clarifications to the National Primary Drinking Water Regulations for Lead and Copper (Final Rule); in 40 CFR part 141 and 40 CFR part 142; was approved 10/10/2007; OMB Number 2040-0204; expires 06/30/2008.

Short Term Approval

EPA ICR Number 1560.07; National Water Quality Inventory Reports (Clean Water Act Sections 305(b), 303(d), 314(a) and 106(e)); in 40 CFR part 130; short term extension was approved by OMB on 09/24/2007; OMB Number 2040-0071; expires 12/31/2007.

Comment Filed

EPA ICR Number 2251.01; Control of Emissions from Nonroad Spark-Ignition Engines and Equipment (Proposed Rule); OMB filed comments on 10/04/2007.

Withdrawn

EPA ICR Number 2225.01; Assessment of EPA Partnership Programs was withdrawn by Agency on 09/14/2007.

Dated: October 9, 2007.
Sara Hisel-McCoy,
Acting Director, Collection Strategies Division.

[FR Doc. E7-20439 Filed 10-16-07; 8:45 am]

BILLING CODE 6560-50-P